UNITED STATES POSTAL SERVICE BOARD OF GOVERNORS

Sunshine Act Meeting

TIMES AND DATES: 1:00 p.m., Monday, February 7, 2000; 8:30 a.m., Tuesday, February 8, 2000.

PLACE: Coral Gables, Florida, at the Biltmore Hotel, 1200 Anastasia Avenue, in the Country Club Ballroom.

STATUS: February 7 (Closed); February 8 (Open).

MATTERS TO BE CONSIDERED:

Monday, February 7—1:00 p.m. (Closed)

1. Postal Rate Commission Opinion and Recommended Decision in Docket No. MC00-1, Experimental Ride-Along Periodicals Classification Change.

2. Annual Performance Report 1999.

3. Preliminary Annual Performance Plan Targets.

4. Financial Performance.

5. Eproof Service.

6. Personnel Matters.

7. Compensation Issues.

Tuesday, February 8—8:30 a.m. (Open)

1. Minutes of the Previous Meeting, January 10-11, 2000.

2. Remarks of the Postmaster General/Chief Executive Officer.

3. Appointment of Members to Board Committees.

4. Preliminary Annual Performance Plan.

5. Fiscal Year 1999 Comprehensive Statement on Postal Operations.

6. Quarterly Report on Service Performance.

7. Quarterly Report on Financial Results.

8. Capital Investment.

a. Business Customer Support Systems (BCSS).

9. Report on the South Florida District.

10. Tentative Agenda for the March 6-7, 2000, meeting in Washington, DC.

CONTACT PERSON FOR MORE INFORMATION: Thomas J. Koerber, Secretary of the Board, U.S. Postal Service, 475 L'Enfant Plaza, SW, Washington, DC 20260-1000. Telephone (202) 268-4800.

Thomas J. Koerber,
Secretary.

[FR Doc. 00-2136 Filed 1-27-00; 3:10 pm]

BILLING CODE 7710-12-M